FEDERAL ELECTION COMMISSION

Sunshine Act Meetings

TIME AND DATE: Thursday, October 20, 2022 at 10:00 a.m.

PLACE: Hybrid meeting: 1050 First Street NE Washington, DC (12TH Floor) and virtual.

Note: For those attending the meeting in person, current COVID-19 safety protocols for visitors, which are based on the CDC COVID-19 community level in Washington, DC, will be updated on the Commission's contact page by the Monday before the meeting. See the contact page at https://www.fec.gov/contact/. If you would like to virtually access the meeting, see the instructions below.

STATUS: This meeting will be open to the public, subject to the above-referenced guidance regarding the COVID-19 community level and corresponding health and safety procedures. To access the meeting virtually, go to the Commission's website www.fec.gov and click on the banner to be taken to the meeting page.

MATTERS TO BE CONSIDERED:

Draft Advisory Opinion 2022-21: DSCC, Bennet for Colorado, and People for Patty Murray

Notice of Availability for REG 2022-05 (Conduit Reporting Threshold)

Management and Administrative Matters

CONTACT PERSON FOR MORE INFORMATION: Judith Ingram, Press Officer, Telephone: (202) 694-1220.

(Authority: Government in the Sunshine Act, 5 U.S.C. 552b)

Individuals who plan to attend in person and who require special assistance, such as sign language interpretation or other reasonable accommodations, should contact Laura E. Sinram, Secretary and Clerk, at (202) 694-1040, at least 72 hours prior to the meeting date.

Laura E. Sinram,
Secretary and Clerk of the Commission.

[FR Doc. 2022-22627 Filed 10-13-22; 4:15 pm]

BILLING CODE 6715-01-P